ENVIRONMENTAL PROTECTION AGENCY

[OPPTS-41052; FRL-6087-8]

Forty-Fourth Report of the TSCA Interagency Testing Committee to the Administrator; Receipt of Report and Request for Comments

AGENCY: Environmental Protection Agency (EPA).

ACTION: Notice.

SUMMARY: The Toxic Substances Control Act (TSCA) Interagency Testing Committee (ITC) transmitted its Forty-Fourth Report to the Administrator of the EPA on May 27, 1999. In the 44th Report, which is included with this notice, the ITC initiated a process to identify chemicals with production volumes greater than 10,000 pounds per year that are predicted to bioconcentrate, persist, and cause ecological or human health effects. To date the process has identified more than 400 chemicals.

At this time, the ITC is implementing the process and has no revisions to its TSCA section 4(e) Priority Testing List. EPA invites interested persons to submit written comments on the Report.

DATES: Comments, identified by docket control number OPPTS-41052, must be received on or before December 15, 2000.

ADDRESSES: Comments may be submitted by mail, electronically, or in person. Please follow the detailed instructions for each method as provided in Unit I. of the SUPPLEMENTARY INFORMATION. To ensure proper receipt by EPA, it is imperative that you identify docket control number OPPTS-41052 in the subject line on the first page of your response.

FOR FURTHER INFORMATION CONTACT: For general information contact: Barbara Cunningham, Acting Director, Environmental Assistance Division (7408), Office of Pollution Prevention and Toxics, Environmental Protection Agency, 1200 Pennsylvania Ave., NW., Washington, DC 20460; telephone numbers: (202) 554-1404; e-mail address: TSCA-Hotline@epa.gov.

For technical information contact: John D. Walker, ITC Executive Director (7401), Environmental Protection Agency, 1200 Pennsylvania Ave., NW., Washington, DC 20460; telephone number: (202) 260-1825; fax: (202) 260-7895; e-mail address: walker.johnd@epa.gov.

SUPPLEMENTARY INFORMATION:

I. General Information

A. Does this Action Apply to Me?

This notice is directed to the public in general. It may, however, be of particular interest to you if you manufacture (defined by statute to include import) and/or process TSCA-covered chemicals and you may be identified by the North American Industrial Classification System (NAICS) codes 325 and 32411. Because this notice is directed to the general public and other entities may also be interested , the Agency has not attempted to describe all the specific entities that may be interested in this action. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

You may also access additional information about the ITC and the TSCA testing program through the web site for the Office of Pollution Prevention and Toxics (OPPT) at http://www.epa.gov/opptintr/, or go directly to the ITC home page at http://www.epa.gov/opptintr/itc/.

2. In person. The Agency has established an official record for this action under docket control number OPPTS-41052. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPPTS-41052 in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: oppt.ncic@epa.gov, or mail your computer disk to the address identified above. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-41052. Electronic comments may also be filed online at many Federal Depository Libraries.

D. How Should I Handle CBI Information That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person listed under FOR FURTHER INFORMATION CONTACT.

E. What Should I Consider as I Prepare My Comments for EPA?

We invite you to provide your views and comments on the ITC 44th Report. You may find the following suggestions helpful for preparing your comments:

1. Explain your views as clearly as possible.

2. Describe any assumptions that you used.

3. Provide copies of any technical information and/or data you used that support your views.

4. Provide specific examples to illustrate your concerns.

5. Make sure to submit your comments by the deadline in this notice.

6. To ensure proper receipt by EPA, be sure to identify the docket control number assigned to this action in the subject line on the first page of your response. You may also provide the name, date, and Federal Register citation.

II. Background

The Toxic Substances Control Act (TSCA) (15 U.S.C. 260l et seq.) authorizes the Administrator of the EPA to promulgate regulations under section 4(a) requiring testing of chemicals and chemical groups in order to develop data relevant to determining the risks that such chemicals and chemical groups may present to health or the environment. Section 4(e) of TSCA established the ITC to recommend chemicals and chemical groups to the Administrator of the EPA for priority testing consideration. Section 4(e) of TSCA directs the ITC to revise the TSCA section 4(e) Priority Testing List at least every 6 months.

A. The ITC's 44th Report

The 44th Report was received by the EPA Administrator on May 27, 1999, and is included in this notice. In the 44th Report, the ITC stated that it had initiated a process to identify chemicals with production/importation volumes greater than 10,000 pounds per year that are predicted to bioconcentrate, persist, and cause ecological or human health effects. According to the ITC report, more than 400 chemicals have been identified.

B. Status of the Priority Testing List

At this time, the ITC is implementing the process and has no revisions to its TSCA section 4(e) Priority Testing List. The current TSCA section 4(e) Priority Testing List as of May 1999 can be found in Table 1 of the 44th ITC Report which is included in this notice.

List of Subjects

Environmental protection, Chemicals, Hazardous substances.

Dated: November 6, 2000.
Wardner G. Penberthy,
Acting Director, Chemical Control Division, Office of Pollution Prevention and Toxics.

Forty-Fourth Report of the TSCA Interagency Testing Committee to the Administrator, U.S. Environmental Protection Agency

This is the 44th Report of the TSCA Interagency Testing Committee (ITC) to the Administrator of the U.S. Environmental Protection Agency (EPA). The ITC was established by section 4(e) of the Toxic Substances Control Act (TSCA) “to make recommendations to the Administrator respecting the chemical substances and mixtures to which the Administrator should give priority consideration for the promulgation of a rule for testing under section 4(a).... At least every six months..., the Committee shall make such revisions to the Priority Testing List as it determines to be necessary and transmit them to the Administrator together with the Committee's reasons for the revisions” (Public Law 94-469, 90 Stat. 2003 et seq. (15 U.S.C. 2601 et seq.)). Since its creation in 1976, the ITC has submitted 43 semi-annual (May and November) Reports to the EPA Administrator transmitting the Priority Testing List and its revisions. In 1989, the ITC began recommending chemical substances for information reporting, screening, and testing to meet the data needs of its member U.S. Government organizations. ITC Reports are available from http://www.epa.gov/opptintr/itc within a few days of submission to the Administrator and from http://www.epa.gov/fedrgstr after publication in the Federal Register. The ITC meets monthly and produces its revisions to the Priority Testing List with administrative and technical support from the ITC staff and contract support provided by EPA. ITC members and staff are listed at the end of this Report.

During this reporting period (November 1998 to May 1999), the ITC began developing a process to identify chemicals with production or importation volumes >10,000 lb/year that are predicted to bioconcentrate, persist, and cause ecological or human health effects. To date, the process has been used to identify more than 400 chemicals with production or importation volumes >10,000 lb/year with log octanol-water partition coefficients and aerobic biodegradation removal rates that suggest bioconcentration and persistence potential. In addition, the process is being used to:

1. Organize chemicals into structurally related chemical classes for the purpose of developing structure activity relationships (SARs).

2. Characterize the type, quantity, and quality of ecological or human health effects data associated with each chemical.

3. Determine uses.

4. Estimate potential environmental releases and human exposures.

5. Evaluate existing regulations.

6. Identify U.S. Government data needs.

This process supports EPA's current High Production Volume (HPV) Chemical Challenge program (http://www.epa.gov/opptintr/chemrtk/volchall.htm) and Persistent Bioaccumulative Toxics (PBT) project (http://www.epa.gov/opptintr/chemrtk/persbioa.htm). At this time, the ITC is implementing this process and has no revisions to its TSCA section 4(e) Priority Testing List which follows as Table 1.

Table 1.—The TSCA Section 4(e) Priority Testing List(May 1999)¹
Report | Date | Chemical/group | Action
26 | May 1990 | 8 Isocyanates | Recommended with intent-to-designate
27 | November 1990 | 62 Aldehydes | Recommended with intent-to-designate
28 | May 1991 | Chemicals with low confidence reference dose (RfD) | Designated
|  | Acetone |
|  | Thiophenol |
30 | May 1992 | 5 Siloxanes | Recommended
31 | January 1993 | 24 Chemicals with insufficient dermal absorption rate data | Designated
32 | May 1993 | 32 Chemicals with insufficient dermal absorption rate data | Designated
35 | November 1994 | 24 Chemicals with insufficient dermal absorption rate data | Designated
37 | November 1995 | 16 Alkylphenols and 3 alkylphenol polyethoxylates² | Recommended
39 | November 1996 | 15 Nonylphenol ethoxylates and 8 alkylphenol polyethoxylates² | Recommended
41 | November 1997 | 18 Alkylphenols, 5 polyalkyphenols, and 6 alkylphenol polyethoxylates² | Recommended
42 | May 1998 | 3-Amino-5-mercapto-1,2,4-triazole² | Recommended
42 | May 1998 | Glycoluril² | Recommended
42 | May 1998 | Methylal² | Recommended
42 | May 1998 | Ethyl silicate² | Recommended
1 The Priority Testing List is available from the ITC's web site (http://www.epa.gov/opptintr/itc).
2 Data requested through the ITC's Voluntary Information Submissions Innovative Online Network (VISION) (see http://www.epa.gov/opptintr/itc/vision.htm).

TSCA Interagency Testing Committee

Statutory Organizations and Their Representatives

Council on Environmental Quality

Brad Campbell, Member

Department of Commerce

National Institute of Standards and Technology

Malcolm W. Chase, Member

Barbara C. Levin, Alternate

National Oceanographic and Atmospheric Administration

Nancy Foster, Member

Teri Rowles, Alternate

Richard S. Artz, Alternate

Environmental Protection Agency

Paul Campanella, Member

David R. Williams, Alternate

National Cancer Institute

Victor Fung, Member

Harry Seifried, Alternate

National Institute of Environmental Health Sciences

William Eastin, Member, Chair

H.B. Matthews, Alternate

National Institute for Occupational Safety and Health

Albert E. Munson, Member

Christine Sofge, Alternate

National Science Foundation

A. Frederick Thompson, Member

Occupational Safety and Health Administration

Lyn Penniman, Member

Val H. Schaeffer, Alternate

Liaison Organizations and Their Representatives

Agency for Toxic Substances and Disease Registry

William Cibulas, Member

Consumer Product Safety Commission

Jacqueline Ferrante, Member, Vice Chair

Department of Agriculture

Clifford P. Rice, Member

Department of Defense

Rick Drawbaugh, Member

Janet Whaley, Alternate

Jose Centeno, Alternate

Department of the Interior

Barnett A. Rattner, Member

Food and Drug Administration

Raju Kammula, Member

National Library of Medicine

Vera W. Hudson, Member

National Toxicology Program

NIEHS, FDA, and NIOSH Members

Counsel

Scott Sherlock, Office of Pollution Prevention and Toxics, EPA

Technical Support Contractor

Syracuse Research Corporation

ITC Staff

John D. Walker, Executive Director

Norma S. L. Williams, Executive Assistant

TSCA Interagency Testing Committee, Office of Pollution Prevention and Toxics (7401), Environmental Protection Agency, 1200 Pennsylvania Ave., NW., Washington, DC 20460; telephone number: (202) 260-1825; fax number: (202) 260-7895; e-mail address: williams.norma@epa.gov; url: http://www.epa.gov/opptintr/itc.

[FR Doc. 00-29051 Filed 11-15-00; 8:45 am]

BILLING CODE 6560-50-S